POSTAL SERVICE

39 CFR Part 232

Conduct on Postal Property; Weapons Prohibition

AGENCY: Postal Service.

ACTION: Final rule.

SUMMARY: The U.S. Postal Service is amending the rules for conduct on Postal Service property to clarify the prohibition of carrying or storing on Postal Service property any firearms or other dangerous weapons, or deadly weapons or explosives, except for official purposes.

DATES: Effective March 16, 2007.

FOR FURTHER INFORMATION CONTACT: Lawrence Katz, Inspector in Charge, Office of Counsel, U.S. Postal Inspection Service, 202-268-7732.

SUPPLEMENTARY INFORMATION: The amendment to the prohibition of carrying, either openly or concealed, or storing any firearms, other dangerous or deadly weapons or explosives on Postal Service property is to clarify the rule, ensuring that these items are only possessed for official purposes. This change would eliminate potential conflicts with other laws, rules or regulations which may allow the possession of these articles for other than official purposes.

List of Subjects in 39 CFR Part 232

Authority delegations (Government agencies), Crime, Federal buildings and facilities, Government property, Law enforcement officers, Postal Service, Security measures.

In view of the considerations discussed above, the Postal Service adopts the following amendment to 39 CFR part 232.

PART 232—CONDUCT ON POSTAL PROPERTY

1. The authority citation for part 232 continues to read as follows:

Authority: 18 U.S.C. 13, 3061; 21 U.S.C. 802, 844; 39 U.S.C. 401, 403(b)(3), 404(a)(7), 1201(2).

2. In § 232.1, paragraph (l) is revised to read as follows:

§ 232.1 Conduct on postal property.

* * * * *

(l) Weapons and explosives. Notwithstanding the provisions of any other law, rule or regulation, no person while on postal property may carry firearms, other dangerous or deadly weapons, or explosives, either openly or concealed, or store the same on postal property, except for official purposes.

* * * * *

Stanley F. Mires,
Chief Counsel, Legislative.

[FR Doc. E7-4803 Filed 3-15-07; 8:45 am]

BILLING CODE 7710-12-P